DEPARTMENT OF DEFENSE

Department of the Air Force

[Docket ID: USAF-2013-0037]

Privacy Act of 1974; System of Records

AGENCY: Department of the Air Force, DoD.

ACTION: Notice to add a new System of Records.

SUMMARY: The Department of the Air Force proposes to add a new system of records, F084 NMUSAF A, entitled “USAF Museum System Volunteer Records” to its inventory of record systems subject to the Privacy Act of 1974, as amended. This system will maintain an official registry of individuals who volunteer to support the United States Air Force Museum System.

DATES: This proposed action will be effective on January 6, 2014 unless comments are received which result in a contrary determination. Comments will be accepted on or before January 6, 2014.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (571) 256-2515.

SUPPLEMENTARY INFORMATION: The Department of the Air Force's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/airforce/index.html.

The proposed systems reports, as required by 5 U.S.C. 552a(r) of the Privacy Act of 1974, as amended, were submitted on October 24, 2013, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 2, 2013.
Aaron Siegel,
Alternate OSD Federal Register Liaison Officer, Department of Defense.

F084 NMUSAF A

System name:

USAF Museum System Volunteer Records.

System location:

National Museum of the U.S. Air Force, 1100 Spaatz Street, Wright-Patterson Air Force Base, Ohio 45433-7102.

Air Force Museums. Official mailing addresses are published as an appendix to the Air Force's compilation of record system notices.

Categories of individuals covered by the system:

Individuals who registered to volunteer at any Air Force Museum.

Categories of records in the system:

Name, home and personal cell telephone number, home address, personal email address, emergency contact, place and date of birth, employer, education background, skills, hobbies, citizenship, military and/or federal civilian service information, and private and professional affiliations.

Authority for the maintenance of the system:

10 U.S.C., Chapter 10, Section 1588, Authority to Accept Certain Voluntary Services; 10 U.S.C. Section 8013, Secretary of the Air Force; 5 U.S.C. Section 301, Government Organization And Employees; Department of Defense Instruction 1100.21, Voluntary Service in the Department of Defense, and Air Force Instruction 84-103, U.S. Air Force Heritage Program.

Purpose(s):

To maintain an offical registry of individuals who volunteer to support the United States Air Force Museum System.

Routine uses of records maintained in the system, including categories of users and the purposes of such uses:

In addition to those disclosures generally permitted under Title 5 U.S.C. 552a(b) of the Privacy Act of 1974, as amended, these records contained therein may specifically be disclosed outside the DoD as a routine use pursuant to Title 5 U.S.C. 552a(b)(3) as follows:

The DoD Blanket Routine Uses published at the beginning of the Air Force's compilation of systems of records notices may apply to this system.

Policies and practices for storing, retrieving, accessing, retaining, and disposing of records in the system:

Storage:

Paper and electronic storage media.

Retrievability:

Name.

Safeguards:

Physical entry is restricted by the use of an electronic key card and is accessible only to authorized personnel. Paper records are stored in locked file cabinets. Database is on non-networked computer requiring username and password with access restricted to personnel who have been properly screened and who have a need to know.

Retention and disposal:

Records are retained for the duration of the volunteer relationship. Records are destroyed three years after the volunteer relationship has terminated. Paper records are destroyed by cross-cut shredding. Electronic media is destroyed by erasure or degaussing.

System manager(s)and address:

Chief, Education Division, National Museum of the U.S. Air Force, 1100 Spaatz Street, Wright-Patterson Air Force Base, Ohio 45433-7102.

Notification procedure:

Individuals seeking to determine whether this system of records contains information on themselves should address written inquiries to National Museum of the U.S. Air Force, 1100 Spaatz Street, Wright-Patterson Air Force Base, Ohio 45433-7102 or visit the Air Force Museum location where they volunteer.

For verification purposes, individual should provide their full name and/or any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to records about themselves contained in this system should address written inquiries to National Museum of the U.S. Air Force, 1100 Spaatz Street, Wright-Patterson Air Force Base, Ohio 45433-7102 or visit the Air Force Museum location where they volunteer.

For verification purposes, individual should provide their full name and/or any details which may assist in locating records, and their signature.

In addition, the requester must provide a notarized statement or an unsworn declaration made in accordance with 28 U.S.C., 1746, in the following format:

If executed outside the United States: `I declare (or certify, verify, or state) under penalty of perjury under the laws of the United States of America that the foregoing is true and correct. Executed on (date). (Signature)'.

If executed within the United States, its territories, possessions, or commonwealths: `I declare(or certify, verify, or state) under penalty of perjury that the foregoing is true and correct. Executed on (date). (Signature)'.

Contesting records procedures:

The Air Force rules for accessing records and for contesting contents and appealing initial agency determinations are published in Air Force Instruction 33-332, Air Force Privacy Program; 32 CFR part 806b; and may be obtained from the system manager.

Record source categories:

From the individual.

Exemptions claimed for the system:

None.

[FR Doc. 2013-29094 Filed 12-5-13; 8:45 am]

BILLING CODE 5001-06-P